DEPARTMENT OF HEALTH AND HUMAN SERVICES

Centers for Disease Control and Prevention

[30Day-15-14APM]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Surveillance of Health-Related Workplace Absenteeism—[New]—National Institute for Occupational Safety and Health (NIOSH), Centers for Disease Control and Prevention (CDC).

Background and Brief Description

There is currently a high global human health risk from emerging novel influenza, coronavirus and similar evolving pathogens, which is prompting the Centers for Disease Control and Prevention (CDC) to enhance situational awareness capacity for emergency preparedness and response.

During the 2009 influenza A (H1N1) virus pandemic, NIOSH/CDC did a pilot study to test the feasibility of using national surveillance of workplace absenteeism to assess the pandemic's impact on the workplace to plan for preparedness and continuity of operations and to contribute to health awareness during the emergency response. As part of this emergency effort, CDC contracted with the American College of Occupational and Environmental Medicine (ACOEM), which has access to a large network of affiliated medical directors and corporate health units that routinely compile absenteeism data, to conduct enhanced passive surveillance of absenteeism using weekly data from a convenience sample of sentinel worksites.

Due the emergency situation at that time, OMB approval was erroneously not requested for the data collection activities associated with the pilot study. The current request seeks to build off of the data collected from the pilot and accounts for the burden involving all of the participants.

From September 28, 2009, through March 31, 2010, 79 sentinel worksites representing 16 different employers participated in the pilot study. Each week, ACOEM collected reports of aggregated absenteeism data from the medical directors of the participating companies using an emailed, standardized form. ACOEM replaced company names with coded unique identifiers, and sent the aggregated data to CDC/NIOSH for analysis.

The major strengths of the sentinel worksite approach to absenteeism surveillance were the use of existing, routinely collected data and timeliness. The use of existing, routinely collected data made the burden on participating companies negligible. Data were routinely compiled and thus could be collected and analyzed in near real time, making this approach useful, in principle, for providing current situational awareness and actionable intelligence that could be used to inform, prioritize, and evaluate intervention efforts during the pandemic. On the other hand, there were several limitations to the sentinel worksite surveillance done in 2009-2010, and the activity was not maintained after the H1N1 pandemic ended.

At present, two new emerging infectious diseases, novel H7N9 influenza virus and a coronavirus circulating in the Middle East, have demonstrated the need to build additional capacity for national surveillance for health-related workplace absenteeism so that it can be used to monitor the impact of these or any other disease that might reach pandemic potential and spread to the U.S.

NIOSH/CDC requests permission to collect company absenteeism data, to be able to assess the impact of disease on a company and to identify trends in the spread of influenza or other novel disease states. This will provide an additional monitoring system to CDC. The proposed project builds on the 2009/10 initiative and modifies the reporting format to collect information on a daily versus weekly basis. The companies in the program will be those that routinely collect absenteeism data thus the burden will be minimal. We will be asking companies to record their daily absenteeism numbers into an excel file which can be emailed to ACOEM on a weekly or monthly basis. The excel file will be pre-populated with company name, site and dates to ease the reporting burden on companies.

ACOEM will transmit de-identified information on a weekly or monthly basis to NIOSH/CDC who will in turn conduct analysis on an aggregate basis. Data will be compiled by state and HHS region, as well as nationally to allow for trend analysis.

The initial 16 respondents in the 2009/10 study will be asked to participate and an additional 12 companies have indicated an interest in participating in the data collection activity. The employee population among these 28 companies is approximately 293,000.

The annualized estimated burden of time is 607 hours for the 28 respondents in the study. Respondents will complete the form daily; no more than 5 minutes per day/per respondent which translates to 25 minutes per week/per respondent or 700 minutes per week for all respondents. This results in an annualized burden of 607 hours per year.

There are no costs to participants other than the time.

Estimated Annualized Burden Hours
Type of respondent | Form name | Number of respondents | Number of responses per respondent | Average burden per response (in hours)
Private companies | EXCEL data template | 28 | 260 | 5/60

Leroy A. Richardson,
Chief, Information Collection Review Office, Office of Scientific Integrity, Office of the Associate Director for Science, Office of the Director, Centers for Disease Control and Prevention.

[FR Doc. 2014-27350 Filed 11-18-14; 8:45 am]

BILLING CODE 4163-18-P